DEPARTMENT OF THE INTERIOR

Bureau of Land Management

[CA-660-1430-ET, CARI 04221 01]

Notice of Proposed Modification of Withdrawal, and Transfer of Administrative Jurisdiction, and Opportunity for Public Meeting; CA

AGENCY: Bureau of Land Management, Interior.

ACTION: Notice.

SUMMARY: The Department of the Navy has filed an application to modify Public Land Order 3457, which withdrew 1,078.81 acres of public lands on behalf of the Department of Navy for use as a Microwave Space Relay Station. The Department of the Navy has requested that the withdrawal be changed to allow the land to be used as a mountain warfare training site. The Department of the Navy also requested that the administrative jurisdiction for the land be permanently transferred to them. Public Land Order 3457 was published in the Federal Register on October 7, 1964 (29 FR 13815). The land has been and will remain withdrawn from settlement, sale, location, or entry under the general land laws, including the mining and mineral leasing laws.

DATES: Comments and requests for a public meeting must be received by February 24, 2003.

ADDRESSES: Comments and meeting requests should be sent to Howard K. Stark, Chief, Branch of Lands Management (CA-930), Bureau of Land Management, 2800 Cottage Way, Suite W-1834, Sacramento, California 95825-1886.

FOR FURTHER INFORMATION CONTACT: Duane Marti, Realty Specialist, Bureau of Land Management, 916-978-4675.

SUPPLEMENTARY INFORMATION: 1. The Department of the Navy has filed an application to modify Public Land Order 3457, which withdrew the following described public land from settlement, sale, location, or entry under the general land laws, including the mining and mineral leasing laws, subject to valid existing rights for military purposes:

San Bernardino Meridian

T. 17 S., R. 5 E.,

Sec. 23, lot 2, E½SW¼ and SE¼;

Sec. 24, lots 20 and 22, and SW¼;

Sec. 25, W½;

Sec. 26, lots 1 and 2, NE¼, E½NW¼, NE¼SW¼, N½SE¼, and SE¼SE¼.

The area described contains 1,078.81 acres in San Diego County.

2. The Department of the Navy has requested that the administrative jurisdiction of the land described above in paragraph 1 be permanently transferred to the Department of the Navy, so that the land can be managed for use as a mountain warfare training site and shall thereafter be subject to all laws and regulations applicable thereto, subject to valid existing rights.

3. For a period of 90 days from the date of publication of this notice, all persons who wish to submit comments, suggestions, objections, or requests for public meetings in connection with the proposed actions described in this notice, may present their views in writing to the Chief, Branch of Lands Management, California State Office, Bureau of Land Management, at the address listed above. If the authorized officer determines that a public meeting should be held, it will be scheduled and conducted in accordance with 43 CFR 2310.3-1(c)(2). A notice of the time and place would be published in the Federal Register at least 30 days before the scheduled date of the public meeting.

4. The application will be processed in accordance with the regulations set forth in 43 CFR 2300.

5. The subject land is currently withdrawn for the Department of the Navy for military purposes and therefore is segregated from settlement, sale, location, or entry under the general land laws, location and entry under the United States mining laws, and the operation of the mineral leasing laws. The temporary uses which may be permitted during this segregative period are those which are compatible with the use of the land, as determined by the Bureau of Land Management and the Department of the Navy.

Dated: September 19, 2002.
Howard K. Stark,
Chief, Branch of Lands Management.

[FR Doc. 02-29822 Filed 11-22-02; 8:45 am]

BILLING CODE 4310-40-P